DEPARTMENT OF ENERGY

Federal Energy Regulatory Commission

Combined Notice of Filings

Take notice that the Commission has received the following Natural Gas & Oil Pipeline Rate and Refund Report filings:

Filings Instituting Proceedings

Docket Numbers: PR23-35-000.

Applicants: Enable Oklahoma Intrastate Transmission, LLC.

Description: § 284.123(g) Rate Filing: Enable Revised Fuel Percentages April 1, 2023-March 31, 2024 to be effective 4/1/2023.

Filed Date: 2/28/23.

Accession Number: 20230228-5226.

Comment Date: 5 p.m. ET 3/21/23.

284.123(g) Protest: 5 p.m. ET 5/1/23.

Docket Numbers: PR23-36-000.

Applicants: Enable Oklahoma Intrastate Transmission, LLC.

Description: § 284.123(g) Rate Filing: Enable Revised Fuel Percentages April 1, 2023-March 31, 2024 to be effective 4/1/2023.

Filed Date: 3/1/23.

Accession Number: 20230301-5002.

Comment Date: 5 p.m. ET 3/22/23.

284.123(g) Protest: 5 p.m. ET 5/1/23.

Docket Numbers: PR23-37-000.

Applicants: Valley Crossing Pipeline, LLC.

Description: § 284.123 Rate Filing: VCP Address Change Filing to be effective 3/1/2023.

Filed Date: 3/1/23.

Accession Number: 20230301-5049.

Comment Date: 5 p.m. ET 3/22/23.

Docket Numbers: RP23-494-000.

Applicants: El Paso Natural Gas Company, L.L.C.

Description: § 4(d) Rate Filing: Non-Conforming Agreements Update (SRP 2023) to be effective 4/1/2023.

Filed Date: 2/28/23.

Accession Number: 20230228-5214.

Comment Date: 5 p.m. ET 3/13/23.

Docket Numbers: RP23-495-000.

Applicants: LA Storage, LLC.

Description: § 4(d) Rate Filing: LA Storage 2023 Annual Adjustment of Fuel Retainage Percenta to be effective 4/1/2023.

Filed Date: 2/28/23.

Accession Number: 20230228-5219.

Comment Date: 5 p.m. ET 3/13/23.

Docket Numbers: RP23-496-000.

Applicants: High Island Offshore System, L.L.C.

Description: 2022 Annual Fuel Tracker filing of High Island Offshore System, LLC under RP23-496.

Filed Date: 2/28/23.

Accession Number: 20230228-5233.

Comment Date: 5 p.m. ET 3/13/23.

Docket Numbers: RP23-497-000.

Applicants: Midcontinent Express Pipeline LLC.

Description: § 4(d) Rate Filing: MEP Cashout Filing Feb 2023 to be effective 4/1/2023.

Filed Date: 2/28/23.

Accession Number: 20230228-5234.

Comment Date: 5 p.m. ET 3/13/23.

Docket Numbers: RP23-498-000.

Applicants: Columbia Gulf Transmission, LLC.

Description: § 4(d) Rate Filing: TRA 2023 to be effective 4/1/2023.

Filed Date: 2/28/23.

Accession Number: 20230228-5264.

Comment Date: 5 p.m. ET 3/13/23.

Docket Numbers: RP23-499-000.

Applicants: Golden Pass Pipeline LLC.

Description: § 4(d) Rate Filing: GPPL Retainage Report for 2023 to be effective 4/1/2023.

Filed Date: 2/28/23.

Accession Number: 20230228-5276.

Comment Date: 5 p.m. ET 3/13/23.

Docket Numbers: RP23-500-000.

Applicants: Tennessee Gas Pipeline Company, L.L.C.

Description: § 4(d) Rate Filing: Volume No. 2—Citadel Energy Marketing, LLC SP378772 to be effective 3/1/2023.

Filed Date: 2/28/23.

Accession Number: 20230228-5279.

Comment Date: 5 p.m. ET 3/13/23.

Docket Numbers: RP23-501-000.

Applicants: Columbia Gas Transmission, LLC.

Description: § 4(d) Rate Filing: EPCA 2023 to be effective 4/1/2023.

Filed Date: 2/28/23.

Accession Number: 20230228-5302.

Comment Date: 5 p.m. ET 3/13/23.

Docket Numbers: RP23-502-000.

Applicants: Columbia Gas Transmission, LLC.

Description: § 4(d) Rate Filing: TCRA 2023 to be effective 4/1/2023.

Filed Date: 2/28/23.

Accession Number: 20230228-5303.

Comment Date: 5 p.m. ET 3/13/23.

Docket Numbers: RP23-503-000.

Applicants: Columbia Gas Transmission, LLC.

Description: § 4(d) Rate Filing: RAM 2023 to be effective 4/1/2023.

Filed Date: 2/28/23.

Accession Number: 20230228-5308.

Comment Date: 5 p.m. ET 3/13/23.

Docket Numbers: RP23-504-000.

Applicants: TransCameron Pipeline, LLC.

Description: Annual Report of Operational Purchases and Sales of TransCameron Pipeline, LLC.

Filed Date: 2/28/23.

Accession Number: 20230228-5349.

Comment Date: 5 p.m. ET 3/13/23.

Docket Numbers: RP23-505-000.

Applicants: WBI Energy Transmission, Inc.

Description: § 4(d) Rate Filing: 2023 Negotiated and Non-Conforming SA ONEOK FT-1833 to be effective 4/1/2023.

Filed Date: 3/1/23.

Accession Number: 20230301-5006.

Comment Date: 5 p.m. ET 3/13/23.

Docket Numbers: RP23-506-000.

Applicants: WBI Energy Transmission, Inc.

Description: § 4(d) Rate Filing: 2023 Annual Fuel & Electric Power Reimbursement Adjustment to be effective 4/1/2023.

Filed Date: 3/1/23.

Accession Number: 20230301-5008.

Comment Date: 5 p.m. ET 3/13/23.

Docket Numbers: RP23-507-000.

Applicants: WBI Energy Transmission, Inc.

Description: § 4(d) Rate Filing: 2023 Fuel and Electric Power Reimbursement Adjustment Provision to be effective 4/1/2023.

Filed Date: 3/1/23.

Accession Number: 20230301-5009.

Comment Date: 5 p.m. ET 3/13/23.

Docket Numbers: RP23-508-000.

Applicants: Texas Eastern Transmission, LP.

Description: § 4(d) Rate Filing: Negotiated Rate—Sequent K911825 to be effective 4/1/2023.

Filed Date: 3/1/23.

Accession Number: 20230301-5014.

Comment Date: 5 p.m. ET 3/13/23.

Docket Numbers: RP23-509-000.

Applicants: High Island Offshore System, L.L.C.

Description: § 4(d) Rate Filing: Storm Damage Surcharge 2023 to be effective 4/1/2023.

Filed Date: 3/1/23.

Accession Number: 20230301-5015.

Comment Date: 5 p.m. ET 3/13/23.

Docket Numbers: RP23-510-000.

Applicants: NEXUS Gas Transmission, LLC.

Description: § 4(d) Rate Filing: Negotiated Rates—Various Releases eff 3-1-23 to be effective 3/1/2023.

Filed Date: 3/1/23.

Accession Number: 20230301-5018.

Comment Date: 5 p.m. ET 3/13/23.

Docket Numbers: RP23-511-000.

Applicants: Gulf South Pipeline Company, LLC.

Description: § 4(d) Rate Filing: Amendment to Neg Rate Agmt (Southern 53174) to be effective 3/1/2023.

Filed Date: 3/1/23.

Accession Number: 20230301-5021.

Comment Date: 5 p.m. ET 3/13/23.

Docket Numbers: RP23-512-000.

Applicants: Gulf South Pipeline Company, LLC.

Description: § 4(d) Rate Filing: Cap Rel Neg Rate Agmts (Osaka 46429 to Spotlight 56072, Texla 56075) to be effective 3/1/2023.

Filed Date: 3/1/23.

Accession Number: 20230301-5022.

Comment Date: 5 p.m. ET 3/13/23.

Docket Numbers: RP23-513-000.

Applicants: Florida Gas Transmission Company, LLC.

Description: § 4(d) Rate Filing: Fuel Filing on 3-1-2023 to be effective 4/1/2023.

Filed Date: 3/1/23.

Accession Number: 20230301-5024.

Comment Date: 5 p.m. ET 3/13/23.

Docket Numbers: RP23-514-000.

Applicants: Panhandle Eastern Pipe Line Company, LP.

Description: § 4(d) Rate Filing: Fuel Filing on 3-1-23 to be effective 4/1/2023.

Filed Date: 3/1/23.

Accession Number: 20230301-5026.

Comment Date: 5 p.m. ET 3/13/23.

Docket Numbers: RP23-515-000.

Applicants: Trunkline Gas Company, LLC.

Description: § 4(d) Rate Filing: Fuel Filing on 3-1-23 to be effective 4/1/2023.

Filed Date: 3/1/23.

Accession Number: 20230301-5029.

Comment Date: 5 p.m. ET 3/13/23.

Docket Numbers: RP23-516-000.

Applicants: Rover Pipeline LLC.

Description: § 4(d) Rate Filing: Fuel Filing on 3-1-23 to be effective 4/1/2023.

Filed Date: 3/1/23.

Accession Number: 20230301-5032.

Comment Date: 5 p.m. ET 3/13/23.

Docket Numbers: RP23-517-000.

Applicants: Rover Pipeline LLC.

Description: Compliance filing: Flow Through of Cash-Out Penalty Revenues filed on 3-1-23 to be effective N/A.

Filed Date: 3/1/23.

Accession Number: 20230301-5035.

Comment Date: 5 p.m. ET 3/13/23.

Docket Numbers: RP23-518-000.

Applicants: Cheniere Corpus Christi Pipeline, LP.

Description: § 4(d) Rate Filing: CCPL 2023 Retainage Filing to be effective 4/1/2023.

Filed Date: 3/1/23.

Accession Number: 20230301-5036.

Comment Date: 5 p.m. ET 3/13/23.

Docket Numbers: RP23-519-000.

Applicants: Texas Eastern Transmission, LP.

Description: § 4(d) Rate Filing: Negotiated Rates—Con Ed to Direct En 8981919 to be effective 3/1/2023.

Filed Date: 3/1/23.

Accession Number: 20230301-5038.

Comment Date: 5 p.m. ET 3/13/23.

Docket Numbers: RP23-520-000.

Applicants: MarkWest Pioneer, L.L.C.

Description: § 4(d) Rate Filing: Quarterly Fuel Adjustment Filing to be effective 4/1/2023.

Filed Date: 3/1/23.

Accession Number: 20230301-5040.

Comment Date: 5 p.m. ET 3/13/23.

Docket Numbers: RP23-521-000.

Applicants: KPC Pipeline, LLC.

Description: § 4(d) Rate Filing: Fuel Reimbursement Adjustment to be effective 4/1/2023.

Filed Date: 3/1/23.

Accession Number: 20230301-5041.

Comment Date: 5 p.m. ET 3/13/23.

Docket Numbers: RP23-522-000.

Applicants: Tennessee Gas Pipeline Company, L.L.C.

Description: § 4(d) Rate Filing: TGP 2023 Fuel Tracker Filing Docket No RP23- to be effective 4/1/2023.

Filed Date: 3/1/23.

Accession Number: 20230301-5042.

Comment Date: 5 p.m. ET 3/13/23.

Docket Numbers: RP23-523-000.

Applicants: Transcontinental Gas Pipe Line Company, LLC.

Description: § 4(d) Rate Filing: Annual Electric Power Tracker Filing Effective April 1, 2023 to be effective 4/1/2023.

Filed Date: 3/1/23.

Accession Number: 20230301-5044.

Comment Date: 5 p.m. ET 3/13/23.

Docket Numbers: RP23-524-000.

Applicants: Columbia Gas Transmission, LLC.

Description: § 4(d) Rate Filing: CCRM 2023 to be effective 4/1/2023.

Filed Date: 3/1/23.

Accession Number: 20230301-5057.

Comment Date: 5 p.m. ET 3/13/23.

Docket Numbers: RP23-525-000.

Applicants: Cheniere Creole Trail Pipeline, L.P.

Description: § 4(d) Rate Filing: Cheniere Creole Trail Retainage Filing and Housekeeping to be effective 4/1/2023.

Filed Date: 3/1/23.

Accession Number: 20230301-5058.

Comment Date: 5 p.m. ET 3/13/23.

Docket Numbers: RP23-526-000.

Applicants: Tallgrass Interstate Gas Transmission, LLC.

Description: § 4(d) Rate Filing: TIGT 2023-03-01 Fuel and L&U Reimbursement and Power Cost Tracker to be effective 4/1/2023.

Filed Date: 3/1/23.

Accession Number: 20230301-5067.

Comment Date: 5 p.m. ET 3/13/23.

Docket Numbers: RP23-527-000.

Applicants: Equitrans, L.P.

Description: § 4(d) Rate Filing: Negotiated Rate Capacity Release Agreements—3/1/2023 to be effective 3/1/2023.

Filed Date: 3/1/23.

Accession Number: 20230301-5073.

Comment Date: 5 p.m. ET 3/13/23.

Docket Numbers: RP23-528-000.

Applicants: Enable Gas Transmission, LLC.

Description: § 4(d) Rate Filing: NRA Filing—WM Renewable to be effective 3/1/2023.

Filed Date: 3/1/23.

Accession Number: 20230301-5076.

Comment Date: 5 p.m. ET 3/13/23.

Docket Numbers: RP23-529-000.

Applicants: Iroquois Gas Transmission System, L.P.

Description: § 4(d) Rate Filing: 3.1.23 Negotiated Rates—Hartree Partners, LP R-7090-09 to be effective 4/1/2023.

Filed Date: 3/1/23.

Accession Number: 20230301-5100.

Comment Date: 5 p.m. ET 3/13/23.

Docket Numbers: RP23-530-000.

Applicants: Cheniere Corpus Christi Pipeline, LP.

Description: § 4(d) Rate Filing: Cheniere Corpus Christi 2023 EPC Filing to be effective 4/1/2023.

Filed Date: 3/1/23.

Accession Number: 20230301-5112.

Comment Date: 5 p.m. ET 3/13/23.

Docket Numbers: RP23-531-000.

Applicants: Iroquois Gas Transmission System, L.P.

Description: § 4(d) Rate Filing: 3.1.23 Negotiated Rates—Emera Energy Services, Inc. R-2715-56 to be effective 4/1/2023.

Filed Date: 3/1/23.

Accession Number: 20230301-5114.

Comment Date: 5 p.m. ET 3/13/23.

Docket Numbers: RP23-532-000.

Applicants: Iroquois Gas Transmission System, L.P.

Description: § 4(d) Rate Filing: 3.1.23 Negotiated Rates—Emera Energy Services, Inc. R-2715-55 to be effective 4/1/2023.

Filed Date: 3/1/23.

Accession Number: 20230301-5118.

Comment Date: 5 p.m. ET 3/13/23.

Docket Numbers: RP23-533-000.

Applicants: Iroquois Gas Transmission System, L.P.

Description: § 4(d) Rate Filing: 3.1.23 Negotiated Rates—Castleton Commodities Merchant Trading L.P. R-4010-06 to be effective 4/1/2023.

Filed Date: 3/1/23.

Accession Number: 20230301-5123.

Comment Date: 5 p.m. ET 3/13/23.

Docket Numbers: RP23-534-000.

Applicants: Iroquois Gas Transmission System, L.P.

Description: § 4(d) Rate Filing: 3.1.23 Negotiated Rates—Citadel Energy Marketing LLC R-7705-18 to be effective 4/1/2023.

Filed Date: 3/1/23.

Accession Number: 20230301-5126.

Comment Date: 5 p.m. ET 3/13/23.

Docket Numbers: RP23-535-000.

Applicants: Iroquois Gas Transmission System, L.P.

Description: § 4(d) Rate Filing: 3.1.23 Negotiated Rates—Citadel Energy Marketing LLC R-7705-19 to be effective 4/1/2023.

Filed Date: 3/1/23.

Accession Number: 20230301-5129.

Comment Date: 5 p.m. ET 3/13/23.

Any person desiring to intervene or protest in any of the above proceedings must file in accordance with Rules 211 and 214 of the Commission's Regulations (18 CFR 385.211 and 385.214) on or before 5: 00 p.m. Eastern time on the specified comment date. Protests may be considered, but intervention is necessary to become a party to the proceeding.

Filings in Existing Proceedings

Docket Numbers: RP11-1591-002.

Applicants: Golden Pass Pipeline LLC.

Description: Compliance filing: Golden Pass Pipeline LLC 2023 Operational Purchase and Sales to be effective N/A.

Filed Date: 2/28/23.

Accession Number: 20230228-5310.

Comment Date: 5 p.m. ET 3/13/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2023.
Debbie-Anne A. Reese,
Deputy Secretary.

[FR Doc. 2023-04636 Filed 3-6-23; 8:45 am]

BILLING CODE 6717-01-P